FEDERAL COMMUNICATIONS COMMISSION

Notice of Public Information Collection(s) Being Reviewed by the Federal Communications Commission, Comments Requested

May 4, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 12, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-XXXX.

Title: Qualification Questions.

Form No.: FCC Form 312-EZ.

Type of Review: New collection.

Respondents: Business or other for-profit.

Number of Respondents: 3,872.

Estimated Time Per Response: 10 hours.

Frequency of Response: On occasion reporting requirement and third party disclosure requirement.

Total Annual Burden: 38,720 hours.

Total Annual Cost: $4,347,000.

Privacy Act Impact Assessment: N/A.

Needs and Uses: The FCC Form 312-EZ is used by applicants for routine conventional C-band and Ku-band earth station applications eligible for the “auto-grant” procedure. This information collection is used by the Commission in carrying out its duties concerning satellite communications as required by sections 301, 308, 309 and 310 of the Communications Act, as amended. This collection is also used by Commission staff in carrying out its duties under the World Trade Organization (WTO) Basic Telecom Agreement. The information collection requirements accounted for in this collection are necessary to determine the technical and legal qualifications of applicants or licensees to operate a station, transfer or assign a license, and to determine whether the authorization is in the public interest, convenience and necessity. Without such information, the Commission could not determine whether to permit respondents to provide telecommunications services in the United States. Therefore, the Commission would be unable to fulfill its statutory responsibilities in accordance with the Communications Act of 1934, as amended, and the obligations imposed on parties to the WTO Basic Telecom Agreement.

This form has already been approved under OMB control number 3060-0678. However, after the 60-day comment period ends for this collection, the Commission will be submitting it to the OMB as a new collection to separate the rule requirements from the form itself. This will enable the Commission to maintain and track the collection in an easier manner.

OMB Control No.: 3060-XXXX.

Title: Renewal of Application for Satellite Space and Earth Station Authorization.

Form No.: FCC Form 312-R.

Type of Review: New collection.

Respondents: Business or other for-profit.

Number of Respondents: 6.

Estimated Time Per Response: 11 hours.

Frequency of Response: On occasion reporting requirement and third party disclosure requirement.

Total Annual Burden: 66 hours.

Total Annual Cost: $2,288,000.

Privacy Act Impact Assessment: N/A.

Needs and Uses: The FCC Form 312-R is used by earth station licensees to request renewals of their applications. This information collection is used by the Commission in carrying out its duties concerning satellite communications as required by sections 301, 308, 309 and 310 of the Communications Act, as amended. This collection is also used by Commission staff in carrying out its duties under the World Trade Organization (WTO) Basic Telecom Agreement. The information collection requirements accounted for in this collection are necessary to determine the technical and legal qualifications of applicants or licensees to operate a station, transfer or assign a license, and to determine whether the authorization is in the public interest, convenience and necessity. Without such information, the Commission could not determine whether to permit respondents to provide telecommunications services in the United States. Therefore, the Commission would be unable to fulfill its statutory responsibilities in accordance with the Communications Act of 1934, as amended, and the obligations imposed on parties to the WTO Basic Telecom Agreement.

This form has already been approved under OMB control number 3060-0678. However, after the 60-day comment period ends for this collection, the Commission will be submitting it to the OMB as a new collection to separate the rule requirements from the form itself. This will enable the Commission to maintain and track the collection in an easier manner.

Federal Communications Commission.
Marlene H. Dortch,
Secretary.

[FR Doc. 04-10708 Filed 5-11-04; 8:45 am]

BILLING CODE 6712-01-P